DEPARTMENT OF COMMERCE

International Trade Administration

[C-122-858]

Certain Softwood Lumber Products From Canada: Notice of Final Results of Countervailing Duty Changed Circumstances Review

AGENCY: Enforcement and Compliance, International Trade Administration, Department of Commerce.

SUMMARY: On June 25, 2021, the Department of Commerce (Commerce) published the initiation and preliminary results of a changed circumstances review (CCR) of the countervailing duty (CVD) order on certain softwood lumber products (softwood lumber) from Canada. For these final results, Commerce continues to find that Chaleur Forest Products LP (CFP LP) and Chaleur Forest Products Inc. (CFP Inc.) are the successors-in-interest (SIIs) to Chaleur Sawmills LP (Chaleur LP) and Fornebu Lumber Co. Inc. (Fornebu Inc.), respectively, in the context of the CVD order on softwood lumber from Canada.

DATES: Applicable August 6, 2021.

FOR FURTHER INFORMATION CONTACT: Kristen Johnson, AD/CVD Operations, Office III, Enforcement and Compliance, International Trade Administration, U.S. Department of Commerce, 1401 Constitution Avenue NW, Washington, DC 20230; telephone: (202) 482-4793.

SUPPLEMENTARY INFORMATION:

Background

On March 11, 2021, CFP LP and CFP Inc. (collectively, the Chaleur Companies) requested that, pursuant to section 751(b) of the Tariff Act of 1930, as amended (the Act), 19 CFR 351.216, and 19 CFR 351.221(c)(3), Commerce conduct a CCR of the Order ¹ to confirm that CFP LP and CFP Inc. are the SIIs to Chaleur LP and Fornebu Inc., respectively, and accordingly, to assign them the cash deposit rates of Chaleur LP and Fornebu Inc.² In their submission, the Chaleur Companies state that Chaleur LP and Fornebu Inc. undertook name changes to CFP LP and CFP Inc., respectively, but are otherwise unchanged.³

¹ See Certain Softwood Lumber Products from Canada: Amended Final Affirmative Countervailing Duty Determination and Countervailing Duty Order, 83 FR 347 (January 3, 2018) (Order).

² See Chaleur Companies' Letter, “Certain Softwood Lumber Products from Canada: Chaleur's Request for Changed Circumstances Reviews,” dated March 11, 2021 (CCR Request).

³ Id. at 2-3.

On June 25, 2021, Commerce initiated a CCR and preliminarily determined that CFP LP and CFP Inc. are the SIIs to Chaleur LP and Fornebu Inc., respectively.⁴ In the Initiation and Preliminary Results CCR, we provided all interested parties with an opportunity to comment on the results. However, we received no comments.

⁴ See Certain Softwood Lumber Products from Canada: Notice of Initiation and Preliminarily Results of Countervailing Duty Changed Circumstances Review, 86 FR 33660 (June 25, 2021) (Initiation and Preliminary Results CCR).

Scope of the Order

The merchandise subject to the Order is certain softwood lumber products.⁵ The products are currently classified under the following Harmonized Tariff Schedule of the United States (HTSUS) item numbers: 4406.11.0000; 4406.91.0000; 4407.10.01.01; 4407.10.01.02; 4407.10.01.15; 4407.10.01.16; 4407.10.01.17; 4407.10.01.18; 4407.10.01.19; 4407.10.01.20; 4407.10.01.42; 4407.10.01.43; 4407.10.01.44; 4407.10.01.45; 4407.10.01.46; 4407.10.01.47; 4407.10.01.48; 4407.10.01.49; 4407.10.01.52; 4407.10.01.53; 4407.10.01.54; 4407.10.01.55; 4407.10.01.56; 4407.10.01.57; 4407.10.01.58; 4407.10.01.59; 4407.10.01.64; 4407.10.01.65; 4407.10.01.66; 4407.10.01.67; 4407.10.01.68; 4407.10.01.69; 4407.10.01.74; 4407.10.01.75; 4407.10.01.76; 4407.10.01.77; 4407.10.01.82; 4407.10.01.83; 4407.10.01.92; 4407.10.01.93; 4407.11.00.01; 4407.11.00.02; 4407.11.00.42; 4407.11.00.43; 4407.11.00.44; 4407.11.00.45; 4407.11.00.46; 4407.11.00.47; 4407.11.00.48; 4407.11.00.49; 4407.11.00.52; 4407.11.00.53; 4407.12.00.01; 4407.12.00.02; 4407.12.00.17; 4407.12.00.18; 4407.12.00.19; 4407.12.00.20; 4407.12.00.58; 4407.12.00.59; 4407.19.05.00; 4407.19.06.00; 4407.19.10.01; 4407.19.10.02; 4407.19.10.54; 4407.19.10.55; 4407.19.10.56; 4407.19.10.57; 4407.19.10.64; 4407.19.10.65; 4407.19.10.66; 4407.19.10.67; 4407.19.10.68; 4407.19.10.69; 4407.19.10.74; 4407.19.10.75; 4407.19.10.76; 4407.19.10.77; 4407.19.10.82; 4407.19.10.83; 4407.19.10.92; 4407.19.10.93; 4409.10.05.00; 4409.10.10.20; 4409.10.10.40; 4409.10.10.60; 4409.10.10.80; 4409.10.20.00; 4409.10.90.20; 4409.10.90.40; 4418.50.0010; 4418.50.0030; 4418.50.0050 and 4418.99.10.00. Although the HTSUS numbers are provided for convenience and customs purposes, the written product description remains dispositive.

⁵ For a complete description of the Order, see Memorandum, “Initiation and Preliminary Results of Changed Circumstances Review: Preliminary Decision Memorandum,” dated June 14, 2021.

Final Results of CCR

For the reasons stated in the Initiation and Preliminary Results CCR, Commerce continues to find that CFP LP and CFP Inc. are the SIIs to Chaleur LP and Fornebu Inc., respectively. As a result of this determination and consistent with established practice, we find that CFP LP and CFP Inc. should receive the cash deposit rates previously assigned to Chaleur LP and Fornebu Inc., respectively. Consequently, Commerce will instruct U.S. Customs and Border Protection to suspend liquidation of all shipments of subject merchandise produced and/or exported by CFP LP and CFP Inc. and entered, or withdrawn from warehouse, for consumption on or after the publication date of this notice in the Federal Register at the cash deposit rate in effect for Chaleur LP and Fornebu Inc., respectively. This cash deposit requirement shall remain in effect until further notice.

Notification to Interested Parties

We are issuing this determination and publishing these final results and notice in accordance with sections 751(b)(1) and 777(i)(1) and (2) of the Act, and 19 CFR 351.216(e), 351.221(b), and 351.221(c)(3).

Dated: August 2, 2021.
Ryan Majerus,
Deputy Assistant Secretary for Policy and Negotiations.

[FR Doc. 2021-16839 Filed 8-5-21; 8:45 am]

BILLING CODE 3510-DS-P